ENVIRONMENTAL PROTECTION AGENCY

40 CFR Part 80

[EPA-HQ-OAR-2016-0631; FRL 9961-45-OAR]

RIN 2060-AT32

Relaxation of the Federal Reid Vapor Pressure Gasoline Volatility Standard for Davidson, Rutherford, Sumner, Williamson, and Wilson Counties, Tennessee

AGENCY: Environmental Protection Agency (EPA).

ACTION: Proposed rule.

SUMMARY: The Environmental Protection Agency (EPA) is proposing to approve a request from the state of Tennessee for EPA to relax the federal Reid Vapor Pressure (RVP) standard applicable to gasoline introduced into commerce from June 1 to September 15 of each year for Davidson, Rutherford, Sumner, Williamson, and Wilson Counties (hereinafter referred to as the Middle Tennessee Area or Area). Specifically, EPA is proposing to amend the regulations to allow the RVP standard for the Middle Tennessee Area to rise from 7.8 pounds per square inch (psi) to 9.0 psi for gasoline. EPA has preliminarily determined that this change to the federal RVP regulation is consistent with the applicable provisions of the Clean Air Act (CAA).

DATES: Written comments must be received on or before May 12, 2017 unless a public hearing is requested by April 27, 2017. If the EPA receives such a request, we will publish information related to the timing and location of the hearing and a new deadline for public comment.

ADDRESSES: Submit your comments, identified by Docket ID No. EPA-HQ-OAR-2016-0631, to the Federal eRulemaking Portal: https://www.regulations.gov. Follow the online instructions for submitting comments. Once submitted, comments cannot be edited or withdrawn. EPA may publish any comment received to its public docket. Do not submit electronically any information you consider to be Confidential Business Information (CBI) or other information whose disclosure is restricted by statute. If you need to include CBI as part of your comment, please visit https://www.epa.gov/dockets/commenting-epa-dockets for instructions. Multimedia submissions (audio, video, etc.) must be accompanied by a written comment. The written comment is considered the official comment and should include discussion of all points you wish to make.

For additional submission methods, the full EPA public comment policy, and general guidance on making effective comments, please visit https://www.epa.gov/dockets/commenting-epa-dockets.

FOR FURTHER INFORMATION CONTACT: David Dickinson, Office of Transportation and Air Quality, Environmental Protection Agency, 1200 Pennsylvania Avenue, Washington, DC 20460; telephone number: (202) 343-9256; fax number: (202) 343-2804; email address: dickinson.david@epa.gov.

SUPPLEMENTARY INFORMATION:

The contents of this preamble are listed in the following outline:

I. General Information

II. Public Participation

III. Background and Proposal

IV. Statutory and Executive Order Reviews

V. Legal Authority

I. General Information

A. Does this action apply to me?

Entities potentially affected by this proposed rule are fuel producers and distributors involved in the supplying of gasoline to the Middle Tennessee Area.

Examples of potentially regulated entities | NAICS ¹ codes
Petroleum refineries | 324110
Gasoline Marketers and Distributors | 424710 424720
Gasoline Retail Stations | 447110
Gasoline Transporters | 484220 484230

The above table is not intended to be exhaustive, but rather provides a guide for readers regarding entities likely to be regulated by this action. The table lists the types of entities of which EPA is aware that potentially could be affected by this proposed rule. Other types of entities not listed on the table could also be affected. To determine whether your organization could be affected by this proposed rule, you should carefully examine the regulations in 40 CFR 80.27. If you have questions regarding the applicability of this action to a particular entity, call the person listed in the FOR FURTHER INFORMATION CONTACT section of this preamble.

¹ North American Industry Classification System.

B. What is the agency's authority for taking this action?

The statutory authority for this action is granted to the EPA by Sections 211(h) and 301(a) of the Clean Air Act, as amended; 42 U.S.C. 7545(h) and 7601(a).

II. Public Participation

EPA will not hold a public hearing on this matter unless a request is received by the person identified in the FOR FURTHER INFORMATION CONTACT section of this preamble by April 27, 2017. If the EPA receives such a request, we will publish information related to the timing and location of the hearing and a new deadline for public comment.

III. Background and Proposal

A. Summary of the Proposal

EPA is proposing to approve a request from the State of Tennessee to change the summertime federal RVP standard for Davidson, Rutherford, Sumner, Williamson, and Wilson Counties from 7.8 psi to 9.0 psi by amending EPA's regulations at 40 CFR 80.27(a)(2). In a separate, concurrent rulemaking noted below, EPA has already proposed to approve a maintenance plan revision for the Middle Tennessee Area for the 1997 ozone national ambient air quality standard (NAAQS) and a CAA section 110(l) non-interference demonstration that relaxing the federal RVP requirement from 7.8 psi to 9.0 psi for gasoline sold from June 1 to September 15 of each year in the Middle Tennessee Area would not interfere with maintenance of any NAAQS in the Middle Tennessee Area, including the 2008 and 2015 ozone NAAQS, or with any other applicable CAA requirement. For more information on Tennessee's maintenance plan revision request for the Middle Tennessee Area, please refer to the notice of proposed rulemaking for that action (82 FR 11517 (February 24, 2017)). EPA intends to take final action on this rule as proposed only upon the finalization of the maintenance plan revision and non-interference demonstration rulemaking.

The preamble for this rulemaking is organized as follows: Section III.B. provides the history of the federal gasoline volatility regulation. Section III.C. describes the policy regarding relaxation of gasoline volatility standards in ozone nonattainment areas that are redesignated as attainment areas as well as maintenance areas. Section III.D. provides information specific to Tennessee's request for the Middle Tennessee Area.

B. History of the Gasoline Volatility Requirement

On August 19, 1987 (52 FR 31274), EPA determined that gasoline nationwide was becoming increasingly volatile, causing an increase in evaporative emissions from gasoline-powered vehicles and equipment. Evaporative emissions from gasoline, referred to as volatile organic compounds (VOC), are precursors to the formation of tropospheric ozone and contribute to the nation's ground-level ozone problem. Exposure to ground-level ozone can reduce lung function, thereby aggravating asthma and other respiratory conditions, increase susceptibility to respiratory infection, and may contribute to premature death in people with heart and lung disease.

The most common measure of fuel volatility that is useful in evaluating gasoline evaporative emissions is RVP. Under CAA section 211(c), the EPA promulgated regulations on March 22, 1989 (54 FR 11868) that set maximum limits for the RVP of gasoline sold during the regulatory control periods that were established on a state-by-state basis in the final rule. The regulatory control periods addressed the portion of the year when peak ozone concentrations were expected. These regulations constituted Phase I of a two-phase nationwide program, which was designed to reduce the volatility of gasoline during the high ozone season. On June 11, 1990 (55 FR 23658), EPA promulgated more stringent volatility controls as Phase II of the volatility control program. These requirements established maximum RVP standards of 9.0 psi or 7.8 psi (depending on the state, the month, and the area's initial ozone attainment designation with respect to the 1-hour ozone NAAQS).

The 1990 CAA Amendments established a new section 211(h) to address fuel volatility. CAA section 211(h) requires EPA to promulgate regulations making it unlawful to sell, offer for sale, dispense, supply, offer for supply, transport, or introduce into commerce gasoline with an RVP level in excess of 9.0 psi during the high ozone season. CAA section 211(h) also prohibits the EPA from establishing a volatility standard more stringent than 9.0 psi in an attainment area, except that the EPA may impose a lower (more stringent) standard in any former ozone nonattainment area redesignated to attainment.

On December 12, 1991 (56 FR 64704), the EPA modified the Phase II volatility regulations to be consistent with CAA section 211(h). The modified regulations prohibited the sale of gasoline with an RVP above 9.0 psi in all areas designated attainment for ozone, effective January 13, 1992. For areas designated as nonattainment, the regulations retained the original Phase II standards published on June 11, 1990 (55 FR 23658), which included the 7.8 psi ozone season limitation for certain areas. As stated in the preamble to the Phase II volatility controls and reiterated in the proposed change to the volatility standards published in 1991, EPA will rely on states to initiate changes to their respective volatility programs. EPA's policy for approving such changes is described below in Section III.C.

The State of Tennessee has initiated this change by requesting that EPA relax the 7.8 psi gasoline RVP standard to 9.0 psi for Davidson, Rutherford, Sumner, Williamson, and Wilson Counties, which are subject to the 7.8 gasoline RVP requirement during the summertime ozone season. Accordingly, the TDEC provided a technical demonstration showing that relaxing the federal gasoline RVP requirements in the five counties from 7.8 psi to 9.0 psi would not interfere with maintenance of any NAAQS in the Middle Tennessee Area, including the 2015 ozone NAAQS, or with any other applicable CAA requirement.

C. Relaxation of Gasoline Volatility Standards in Ozone Nonattainment Areas That Are Redesignated to Attainment Areas

As stated in the preamble for EPA's amended Phase II volatility standards (56 FR 64706), any change in the gasoline volatility standard for a nonattainment area that was subsequently redesignated as an attainment area must be accomplished through a separate rulemaking that revises the applicable standard for that area. Thus, for former 1-hour ozone nonattainment areas where the EPA mandated a Phase II volatility standard of 7.8 psi RVP in the December 12, 1991 rulemaking, the federal 7.8 psi gasoline RVP requirement remains in effect, even after such an area is redesignated to attainment, until a separate rulemaking is completed that relaxes the federal gasoline RVP standard in that area from 7.8 psi to 9.0 psi.

As explained in the December 12, 1991 rulemaking, EPA believes that relaxation of an applicable gasoline RVP standard is best accomplished in conjunction with the redesignation process. In order for an ozone nonattainment area to be redesignated as an attainment area, CAA section 107(d)(3) requires the state to make a showing, pursuant to CAA section 175A, that the area is capable of maintaining attainment for the ozone NAAQS for ten years. Depending on the area's circumstances, this maintenance plan will either demonstrate that the area is capable of maintaining attainment for ten years without the more stringent volatility standard or that the more stringent volatility standard may be necessary for the area to maintain its attainment with the ozone NAAQS. Therefore, in the context of a request for redesignation, EPA will not relax the gasoline volatility standard unless the state requests a relaxation and the maintenance plan demonstrates that the area will maintain attainment for ten years without the need for the more stringent volatility standard. Similarly, a maintenance plan may be revised to relax the gasoline volatility standard if the state requests a relaxation and the maintenance plan demonstrates that the area will maintain attainment for the duration of the maintenance plan.

Tennessee is requesting relaxation of the federal gasoline RVP standard from 7.8 psi to 9.0 psi for the Middle Tennessee Area concurrent with its request that the EPA approve a maintenance plan revision for the Area for the 1997 ozone NAAQS.

D. Tennessee's Request To Relax the Federal Gasoline RVP Requirement for the Middle Tennessee Area

On November 21, 2016, the State of Tennessee, through the Tennessee Department of Environment and Conservation (TDEC or State), submitted a revised maintenance plan for the Middle Tennessee Area to EPA for approval, and this maintenance plan revision included a request to relax the federal gasoline RVP requirement. The Middle Tennessee Area is designated as attainment for the 1997 and 2008 ozone NAAQS. Tennessee did not request relaxation of the federal RVP standard from 7.8 psi to 9.0 psi when TDEC originally submitted a CAA section 110(a)(1) maintenance plan (for the 1997 ozone NAAQS) that was approved on January 28, 2011 (76 FR 5078). In addition to the State's November 21, 2016 request to relax the federal gasoline RVP requirement, the State's request includes a CAA section 110(l) non-interference demonstration that removal of the federal RVP requirement of 7.8 psi for gasoline during the summertime ozone season in the Middle Tennessee Area would not interfere with maintenance of any NAAQS, or with any other applicable CAA requirement. Specifically, the State provided a technical demonstration showing that relaxing the federal gasoline RVP requirement in the Middle Tennessee Area from 7.8 psi to 9.0 psi for gasoline sold between June 1 and September 15 of each year would not interfere with maintenance of any NAAQS in the Area, including the 2015 ozone NAAQS, or with any other applicable CAA requirement.

On February 24, 2017, EPA proposed the approval of Tennessee's November 21, 2016 request for a maintenance plan revision for the Middle Tennessee Area. In that proposed rulemaking, EPA included an initial evaluation of Tennessee's non-interference demonstration for the Area.²

² 82 FR 11517 (February 24, 2017).

The maintenance plan revision and non-interference demonstration rulemaking is subject to public notice and comment. EPA will evaluate any comments on the request for a maintenance plan revision and associated non-interference demonstration rulemaking, and any comments will be addressed in the final rule for that rulemaking. Further information on that rulemaking, including any comments received, can be found in the docket for that rulemaking (EPA-R04-OAR-2016-0615).

In this action, the EPA is taking the second step in the process by proposing to approve Tennessee's request to relax the summertime ozone season gasoline RVP standard for the Middle Tennessee Area from 7.8 psi to 9.0 psi. Specifically, EPA is proposing to amend the applicable gasoline RVP standard to allow the gasoline RVP requirements to rise from 7.8 psi to 9.0 psi provided at 40 CFR 80.27(a)(2) for the Area. This proposal to approve Tennessee's request to relax the summertime ozone season gasoline RVP standard for the Middle Tennessee Area from 7.8 psi to 9.0 psi is contingent on EPA's separate approval of Tennessee's November 21, 2016 request for a maintenance plan revision and non-interference demonstration. It is also based on the fact that the Middle Tennessee Area is currently in attainment for both the 2008 ozone NAAQS and the 2015 ozone NAAQS.

If EPA finalizes the approval of the revised maintenance plan for Middle Tennessee and the section 110(l) non-interference demonstration as separately proposed, EPA may issue its final action (based on this proposal) as soon as the date of publication of such final rule. EPA believes that a final rule that raises the RVP standard for gasoline from 7.8 psi to 9.0 psi would be a “a substantive rule which . . . relieves a restriction” within the meaning of 5 U.S.C. 553(d)(1). Accordingly, EPA may decide to make a final rule based on this proposal effective upon publication.

IV. Statutory and Executive Order Reviews

A. Executive Order 12866: Regulatory Planning and Review and Executive Order 13563: Improving Regulation and Regulatory Review

This action is not a significant regulatory action and was therefore not submitted to the Office of Management and Budget (OMB) for review.

B. Paperwork Reduction Act

This action does not impose any new information collection burden under the provisions of the Paperwork Reduction Act, 44 U.S.C. 3501 et seq., and therefore is not subject to these requirements.

C. Regulatory Flexibility Act (RFA)

I certify that this action will not have a significant economic impact on a substantial number of small entities under the RFA. In making this determination, the impact of concern is any significant adverse economic impact on small entities. An agency may certify that a rule will not have a significant economic impact on a substantial number of small entities if the rule relieves regulatory burden, has no net burden or otherwise has a positive economic effect on the small entities subject to the rule. The small entities subject to the requirements of this action are refiners, importers or blenders of gasoline that choose to produce or import low RVP gasoline for sale in Tennessee and gasoline distributers and retail stations in Tennessee. This action relaxes the federal RVP standard for gasoline sold in Davidson, Rutherford, Sumner, Williamson, and Wilson Counties during the summertime ozone season (June 1 to September 15 of each year) to allow the RVP for gasoline sold in those counties to rise from 7.8 psi to 9.0 psi. This rule does not impose any requirements or create impacts on small entities beyond those, if any, already required by or resulting from the CAA section 211(h) Volatility Control program. Therefore, this action will have no net regulatory burden for all directly regulated small entities.

D. Unfunded Mandates Reform Act (UMRA)

This proposed rule does not contain an unfunded mandate of $100 million or more as described in UMRA, 2 U.S.C. 1531-1538, and does not significantly or uniquely affect small governments. The action implements mandates that are specifically and explicitly set forth in CAA section 211(h) without the exercise of any policy discretion by EPA.

E. Executive Order 13132: Federalism

This action does not have federalism implications. It will not have substantial direct effects on the states, on the relationship between the national government and the states, or on the distribution of power and responsibilities among the various levels of government.

F. Executive Order 13175: Consultation and Coordination With Indian Tribal Governments

This action does not have tribal implications, as specified in Executive Order 13175 (65 FR 67249, November 9, 2000). This proposed rule affects only those refiners, importers or blenders of gasoline that choose to produce or import low RVP gasoline for sale in the Middle Tennessee Area and gasoline distributers and retail stations in the Area. Thus, Executive Order 13175 does not apply to this action.

G. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. This action is not subject to Executive Order 13045 because it approves a state program.

H. Executive Order 13211: Actions Concerning Regulations That Significantly Affect Energy Supply, Distribution, or Use

This action is not subject to Executive Order 13211 because it is not a significant regulatory action under Executive Order 12866.

I. National Technology Transfer Advancement Act (NTTAA)

This rulemaking does not involve technical standards.

J. Executive Order 12898: Federal Actions To Address Environmental Justice in Minority Populations and Low-Income Populations

The EPA believes the human health or environmental risk addressed by this action will not have potential disproportionately high and adverse human health or environmental effects on minority, low-income or indigenous populations because it does not affect the applicable ozone NAAQS which establish the level of protection provided to human health or the environment. This rule will relax the applicable volatility standard of gasoline during the summer, possibly resulting in slightly higher mobile source emissions. However, the State of Tennessee has demonstrated in its non-interference demonstration that this action will not interfere with maintenance of the ozone NAAQS in the Middle Tennessee Area for the 1997 ozone NAAQS, or with any other applicable requirement of the CAA including the 2008 and 2015 ozone NAAQS. Therefore, disproportionately high and adverse human health or environmental effects on minority or low-income populations are not an anticipated result. The results of this evaluation are contained in EPA's proposed rule for Tennessee's maintenance plan revision. A copy of Tennessee's November 23, 2016 letter requesting that the EPA relax the gasoline RVP standard, including the technical analysis demonstrating that the less stringent gasoline RVP would not interfere with continued maintenance of the 1997 ozone NAAQS in the Area Middle Tennessee Area, or with any other applicable CAA requirement, has been placed in the public docket for this action.

V. Legal Authority

The statutory authority for this action is granted to the EPA by Sections 211(h) and 301(a) of the Clean Air Act, as amended; 42 U.S.C. 7545(h) and 7601(a).

List of Subjects in 40 CFR Part 80

Environmental protection, Administrative practice and procedures, Air pollution control, Fuel additives, Gasoline, Incorporation by reference, Motor vehicle and motor vehicle engines, Motor vehicle pollution, Penalties, Reporting and recordkeeping requirements.

Dated: April 4, 2017.
E. Scott Pruitt,
Administrator.

[FR Doc. 2017-07399 Filed 4-11-17; 8:45 am]

BILLING CODE 6560-50-P